ENVIRONMENTAL PROTECTION AGENCY

[FRL-7154-4]

Agency Information Collection Activities: Submission for OMB Review; Comment Request; Operator Certification Guidelines and Operator Certification Expense Reimbursement Grants Program

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Operator Certification Guidelines and Operator Certification Expense Reimbursement Grants Program, OMB Control Number 2040-0236, expiration date February 28, 2002. The ICR describes the nature of the information collection and its expected burden and cost; where appropriate, it includes the actual data collection instrument.

DATES: Comments must be submitted on or before April 8, 2002.

ADDRESSES: Send comments, referencing EPA ICR #1955.02, and OMB Control No. 2040-0236 to the following addresses: Susan Auby, U.S. Environmental Protection Agency, Collection Strategies Division (Mail Code 2822), 1200 Pennsylvania Avenue NW., Washington, DC, 20460; and to Office of Information and Regulatory Affairs, Office of Management and Budget (OMB), Attention: Desk Officer for EPA, 725 17th Street, NW, Washington, DC 20503.

FOR FURTHER INFORMATION CONTACT: For a copy of the ICR contact Susan Auby at EPA by phone at (202) 260-4901, by E-mail at auby.susan@epa.gov, or download off the Internet at http://www.epa.gov/icr and refer to EPA ICR #1955.02. For technical questions about the ICR, contact Jenny Jacobs, Drinking Water Protection Division (Mailcode 4606M), Office of Ground Water and Drinking Water, U.S. EPA, 1200 Pennsylvania Avenue NW., Washington, DC, 20460. Ms. Jacobs may be contacted by phone at (202) 564-3836 or by E-mail at jacobs.jenny@epa.gov.

SUPPLEMENTARY INFORMATION: Operator Certification Guidelines and Operator Certification Expense Reimbursement Grants Program (OMB Control Number 2040-0236; EPA ICR Number 1955.02) expiring 2/28/02. This is an extension of a currently approved collection.

Abstract: This information collection is to determine if states are meeting the requirements of EPA's operator certification guidelines, which were published in the Federal Register on February 5, 1999 (64 FR 5916). Section 1419(a) of the Safe Drinking Water Act (SDWA) Amendments of 1996 requires EPA to develop operator certification guidelines for state operator certification programs and to publish final guidelines by February 6, 1999. Pursuant to section 1419(b) of the SDWA, beginning two years after the date on which EPA publishes operator certification guidelines (February 5, 2001), EPA shall withhold 20 percent of the funds a state is otherwise entitled to receive under SDWA section 1452 unless a state has adopted and is implementing a program that meets the requirements of EPA's operator certification guidelines. EPA is required under SDWA section 1419 to make an annual determination on whether to withhold 20 percent of a state's Drinking Water State Revolving Fund (DWSRF) allotment. In order to make these decisions, EPA must collect information from the states as required by EPA's guidelines. States, in turn, must collect information from water systems as required by their respective programs.

SDWA section 1419(d) requires EPA to reimburse (through grants to states) the costs of training, including an appropriate per diem for unsalaried operators, and certification for persons operating community and nontransient noncommunity public water systems serving 3,300 persons or fewer that are required to undergo training pursuant to EPA's operator certification guidelines. Prior to awarding grants to states, EPA will need to collect information from states to ensure that the state has a plan for distributing the funds to small system operators. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on 2/28/01 (66 FR 12776); 1 comment was received.

Burden Statement: The annual public reporting and record keeping burden for this collection of information is estimated to average 4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/operator of public water systems, State Environmental Water Quality Agencies, State Departments of Health.

Estimated Number of Respondents: 68,396.

Frequency of Response: Annually.

Estimated Total Annual Hour Burden: 302,425 hours.

Estimated Total Annualized Capital, O&M Cost Burden: $898,000.

Send comments on the Agency's need for this information, the accuracy of the provided burden estimates, and any suggested methods for minimizing respondent burden, including through the use of automated collection techniques to the addresses listed above. Please refer to EPA ICR No. 1955.02 and OMB Control No. 2040-0236 in any correspondence.

Dated: February 26, 2002.
Oscar Morales,
Director, Collection Strategies Division.

[FR Doc. 02-5450 Filed 3-6-02; 8:45 am]

BILLING CODE 6560-50-P